DEPARTMENT OF TRANSPORTATION

Federal Aviation Administration

Notice of the Availability of the Record for Decision of O'Hare Modernization, at Chicago O'Hare International Airport, Chicago, IL

AGENCY: Federal Aviation Administration, DOT.

ACTION: Notice of the Availability of the Record of Decision for O'Hare Modernization.

Location of Proposed Action: O'Hare International Airport, Chicago, Illinois, (Sections 4, 5, 6, 7, 8, 9, 16, 17, and 18, Township 41 North, Range 10 East, 3rd P.M.).

SUMMARY: The Federal Aviation Administration (FAA) announces the Record of Decision (ROD) for O'Hare Modernization, for Chicago O'Hare International Airport, Chicago, Illinois is available.

SUPPLEMENTARY INFORMATION: The City of Chicago (City), Department of Aviation, as owner and operator of Chicago O'Hare International Airport (O'Hare or the Airport), PO Box 66142, Chicago, IL, 60666, proposes to modernize O'Hare to address existing and future capacity and delay problems. The City initiated master planning and the process of seeking FAA approval to amend its airport layout plan to depict the O'Hare Modernization Program (OMP). The city is also seeking the other necessary FAA approvals to implement the OMP and associated capital improvements and procedures. The FAA prepared an Environmental Impact Statement (EIS) addressing specific improvements at and adjacent to Chicago O'Hare International Airport, Chicago, Illinois. The Draft EIS was issued on January 21, 2005 and the Final EIS was issued on July 22, 2005. The FAA also held three public hearings on February 22, 23, and 24, 2005. The FAA's EIS presents an evaluation of the City's proposed project and reasonable alternatives. Under the City's concept, O'Hare's existing seven-runway configuration would be replaced by an eight-runway configuration, in which six runways would be oriented generally in the east/west direction, the existing northeast/southwest-oriented Runways 4L/22R and 4R/22L would remain, and Runways 14L/32R and 14R/32L would be closed.

On September 29, 2005 the FAA approved the Record of Decision for O'Hare Modernization which approves:

A. The unconditional approval of the revised Airport Layout Plan (ALP) for the projects summarized in Chapter 3 of the Final EIS, which constitute the proposed development.

B. Eligibility for Federal grant-in-aid funds and/or PFC, including the following elements:

1. Land Acquisition.

2. Site Preparation.

3. Runway, Taxiway, and Runway Safety Area Construction.

4. Terminal and Other Landside Development.

5. Installation of Navigational Aids.

6. Environmental Mitigation.

7. Noise Mitigation Projects.

C. Determination and actions, through the aeronautical study process of any off-airport obstacles that might be obstructions to the navigable airspace under the standards and criteria of 14 CFR part 77 and evaluate the appropriateness of proposals for on-airport development from an airspace utilization and safety perspective based on aeronautical studies conducted pursuant to the processes under the standards and criteria of 14 CFR part 157.

D. Development of air traffic control and airspace management procedures to establish and maintain safe and efficient handling and movement of air traffic into and out of the airport under 49 U.S.C. 40103, 40113, and 40120; development and approval of revision to Standard Instrument Approach Procedures (SIAP), Standard Instrument Departures (SID) and Standard Approach Routes (STAR) procedures for the reconfigured runways (14 CFR part 97).

E. Determinations that the proposed new airfield alignment, including runways and taxiways, conform to FAA design criteria. Approval of protocols for maintaining coordination among sponsor offices, construction personnel, and appropriate FAA program offices, ensuring safety during construction.

F. Determinations that air quality impacts associated with the proposed project conform to the State Implementation Plan under section 176(c)(1) of the Clean Air Act, as amended (42 U.S.C. 7506(c)(1), and 40 CFR part 93).

G. Review and subsequent approval of an amended Airport Certification Manual for ORD (per 14 CFR part 139).

H. Review and subsequent approval of amended air carrier operations specifications for service at ORD.

This Notice of Availability and the ROD are also available on the FAA's Web site at http://www.agl.faa.gov/OMP/ROD.htm under the titles Notice of Availability of the Record of Decision of O'Hare Modernization and Record of Decision, respectively.

The ROD is available at the following libraries:

Arlington Heights Memorial Library, 500 North Dunton Ave., Arlington Heights

Bellwood Public Library, 600 Bohland Ave., Bellwood

Bensenville Community Public Library, 200 S Church Rd., Bensenville

Berkeley Public Library, 1637 Taft Ave., Berkeley

Bloomingdale Public Library, 101 Fairfield Way, Bloomingdale

College of DuPage Library, 425 Fawell Blvd., Glen Ellyn

Des Plaines Public Library, 1501 Ellinwood Ave., Des Plaines

Eisenhower Public Library, 4652 N Olcott Ave., Harwood Heights

Elk Grove Village Public Library, 1001 Wellington Ave., Elk Grove

Elmhurst Public Library, 211 Prospect Ave., Elmhurst

Elmwood Park Public Library, 4 W Conti Pkwy., Elmwood Park

Franklin Park Public Library, 10311 Grand Ave., Franklin Park

Glendale Heights Library, 25 E. Fullerton Ave., Glendale Heights

Glenview Public Library, 1930 Glenview Rd., Glenview

Harold Washington Library, 400 S. State St., Chicago

Hoffman Estates Library, 1550 Hassell Rd., Hoffman Estates

Itasca Community Library, 500 W. Irving Park Rd., Itasca

Lombard Public Library, 110 W Maple St., Lombard

Maywood Public Library, 121 S. 5th Ave., Maywood

Melrose Park Public Library, 801 N. Broadway, Melrose Park

Morton Grove Public Library, 6140 Lincoln Ave., Morton Grove

Mount Prospect Public Library, 10 S Emerson St., Mount Prospect

Niles Public Library, 6960 W Oakton St., Niles

Northlake Public Library, 231 N. Wolf Rd., Northlake

Oak Park Public Library, 834 Lake St., Oak Park

Oakton Community College Library, 1616 E. Golf Rd., Des Plaines

Park Ridge Public Library, 20 S Prospect Ave., Park Ridge

River Forest Public Library, 735 Lathrop Ave., River Forest

River Grove Public Library, 8638 W. Grand Ave., River Grove

Schaumburg Township District Library, 130 S Roselle Rd., Schaumburg

Schiller Park Public Library, 4200 Old River Rd., Schiller Park

Villa Park Public Library, 305 S Ardmore Ave., Villa Park

Wood Dale Public Library, 520 N Wood Dale Rd., Wood Dale

Issued in Des Plaines, Illinois on September 29, 2005.
Barry Cooper,
Manager, Chicago Area Modernization Program Office, Great Lakes Region.

[FR Doc. 05-19861 Filed 10-6-05; 8:45 am]

BILLING CODE 4910-13-M